DEPARTMENT OF AGRICULTURE

Rural Utilities Service

South Mississippi Electric Power Association; Notice of Intent

AGENCY: Rural Utilities Service, USDA.

ACTION: Notice of intent to hold a public meeting and prepare an environmental assessment.

SUMMARY: Notice is hereby given that the Rural Utilities Service (RUS), pursuant to the National Environmental Policy Act of 1969, the Council on Environmental Quality Regulations for Implementing the National Environmental Policy Act (40 CFR parts 1500-1508), and RUS Environmental Policies and Procedures (7 CFR part 1794), proposes to prepare an Environmental Assessment related to possible financing assistance to South Mississippi Electric Power Association related to the construction and operation of 475 megawatts of simple cycle, combustion turbine electric generation plants in Mississippi.

Meeting Information: RUS and South Mississippi Electric Power Association will conduct a public meeting on Thursday, August 9, 2001, from 7:00 p.m. until 9:00 p.m. at the headquarters of South Mississippi Electric Power Association, located at 7037 US Highway 49, Hattiesburg, Mississippi.

Government agencies, private organizations, and the public are invited to participate in the planning and analysis of the proposed project. Representatives of RUS and South Mississippi Electric Power Association will be available at the public meeting to discuss RUS' environmental review process, describe the project and alternatives under consideration, discuss the scope of environmental issues to be considered, answer questions, and accept oral and written comments. Written comments will be accepted for 30 days after the public scoping meeting.

FOR FURTHER INFORMATION CONTACT: Bob Quigel, Engineering and Environmental Staff, Rural Utilities Service, at (202) 720-0468. Mr. Quigel's E-mail address is bquigel@rus.usda.gov. Information is also available from Joey Ward of South Mississippi Electric Power Association at (601) 268-2083. Mr. Ward's E-mail address is jward@smepa.com.

SUPPLEMENTARY INFORMATION: South Mississippi Electric Power Association proposes to construct three GE LM6000 combustion turbines with a nameplate rating of 47 megawatts each at a site approximately 2 miles south of Sylvarena in Smith County, Mississippi, three GE 7EAs with a nameplate rating of 83.5 megawatts each at a site located approximately 6 miles east of Silver Creek, in Jefferson Davis County, Mississippi, and one GE 7EA at its existing Moselle Generating Plant which is located approximately 1 mile north of Moselle in Jones County, Mississippi.

Alternatives considered by RUS and South Mississippi Electric Power Association include: (a) No action, (b) purchased power, (c) load management and conservation of energy, (d) renewable energy, (e) combined cycle, and (f) various site locations.

An alternatives evaluation and siting study for the projects was submitted to RUS by South Mississippi Electric Power Association. The alternatives evaluation and siting study are available for public review at RUS in Room 2242, 1400 Independence Avenue, SW, Washington, DC, and at the headquarters of South Mississippi Electric Power Association, 7037 US Highway 49, Hattiesburg, Mississippi. This document will also be available at the Prentiss Public Library, Prentiss, Mississippi; the Evon A. Ford Library, 208 Spring Street, Taylorsville, Mississippi; the Floyd A. Robinson Memorial Library, 150 Main Street, Raleigh, Mississippi; the Laurel-Jones Library, 530 Commerce Street, Laurel, Mississippi; and Ellisville Public Library, 110 Court Street, Ellisville, Mississippi.

From information provided in the alternatives evaluation and site selection study, input that may be provided by government agencies, private organizations, and the public, South Mississippi Electric Power Association will have prepared an environmental analysis to be submitted to RUS for review. RUS will use the environmental analysis to determine the significance of the impacts of the projects and may adopt it as its environmental assessment of the projects. RUS' environmental assessment of the projects will be available for review and comment for 30 days.

Should RUS determine, based on the environmental assessment of the project, that the impacts of the construction and operation of the projects will not have a significant environmental impact, it will prepare a finding of no significant impact. Public notification of a finding of no significant impact will be published in the Federal Register and in newspapers with a circulation in the areas where the projects are proposed to be located.

Any final action by RUS related to the proposed project will be subject to, and contingent upon, compliance with environmental review requirements as prescribed by Council on Environmental Quality and RUS environmental policies and procedures.

Dated: July 12, 2001.
Glendon D. Deal,
Acting Director, Engineering and Environmental Staff.

[FR Doc. 01-17934 Filed 7-19-01; 8:45 am]

BILLING CODE 3410-15-P